DEPARTMENT OF TRANSPORTATION

National Highway Traffic Safety Administration

[Docket No. NHTSA-2018-0094]

Agency Information Collection Activities; Submission to the Office of Management and Budget for Review and Approval; Request for Comment; Fatality Analysis Reporting System

AGENCY: National Highway Traffic Safety Administration (NHTSA), Department of Transportation (DOT).

ACTION: Notice and request for comments on an extension of a previously-approved information collection.

SUMMARY: In compliance with the Paperwork Reduction Act of 1995, this notice announces that the Information Collection Request (ICR) abstracted below will be forwarded to the Office of Management and Budget (OMB) for review, and requests comments on the ICR. The Federal Register Notice with a 60-day comment period soliciting comments on the following information collection was published on February 1, 2019 (84 FR 1270). There were no comments received.

DATES: Comments must be submitted on or before May 28, 2019.

ADDRESSES: Send comments regarding the burden estimate, including suggestions for reducing the burden, to the Office of Management and Budget, Attention: Desk Officer for NHTSA, 725 17th Street NW, Washington, DC 20503.

FOR FURTHER INFORMATION CONTACT: For additional information or access to background documents, contact Barbara Rhea, State Data Reporting Systems Division (NSA-120), Room W53-304, 1200 New Jersey Avenue SE, Washington, DC 20590. Ms. Rhea can be reached via email at barbara.rhea@dot.gov or via phone at 202-366-2714. Please identify the relevant collection of information by referring to its OMB Control Number.

SUPPLEMENTARY INFORMATION: Before a Federal agency can collect certain information from the public, it must receive approval from the Office of Management and Budget (OMB). In compliance with these requirements, this notice announces that the following information collection request has been forwarded to OMB.

A Federal Register notice with a 60-day comment period soliciting comments on the information collection was published on February 1, 2019 (84 FR 1270). There were no comments received.

Title: Fatality Analysis Reporting System.

OMB Control Number: 2127-0006.

Type of Request: Extension without change of a previously approved information collection.

Type of Review: Regular.

Affected Public: State Governments.

Abstract: Under both the Highway Safety Act of 1966 and the National Traffic and Motor Vehicle Safety Act of 1966, as amended, the National Highway Traffic Safety Administration (NHTSA) has the responsibility to collect accident data that support the establishment and enforcement of motor vehicle regulations and highway safety programs. These regulations and programs are developed to reduce the severity of injury and the property damage associated with motor vehicle accidents. The Fatality Analysis Reporting System (FARS) is a major system that acquires national fatality information directly from existing State files and documents. The total user population includes Federal and State agencies and the private sector.

The OMB approval for the survey is scheduled to expire on April 30, 2019. NHTSA seeks an extension of this approval to obtain this crash data vital to FARS' function.

Estimated Total Annual Burden Hours: 104,244 hours.

There are 52 State “respondents” reporting on approximately 34,748 fatal crash cases per year. The State employee (or employees depending on the number of fatal crashes per year occurring in the State) acquires and codes the required information as fatal crashes occur. Approximately 3.00 hours per case are necessary to complete the FARS forms. This results in an estimated annual burden of 104,244 hours.

Number of Respondents: 52.

FARS data is collected from the State governments from the 50 States, DC, and Puerto Rico.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information.

Authority: The Paperwork Reduction Act of 1995; 44 U.S.C. Chapter 35, as amended; and 49 CFR 1.95.

Cem Hatipoglu,
Acting Associate Administrator for the National Center for Statistics and Analysis.

[FR Doc. 2019-08340 Filed 4-24-19; 8:45 am]

BILLING CODE 4910-59-P